ENVIRONMENTAL PROTECTION AGENCY

[EPA-HQ -OAR-2005-0161; FRL 9529-8]

Information Collection Request Submitted to OMB for Review and Approval; Comment Request; Renewable Fuels Standard Program (RFS2—Supplemental) (Renewal)

AGENCY: Environmental Protection Agency (EPA).

ACTION: Notice.

SUMMARY: The Environmental Protection Agency has submitted an information collection request (ICR), “Renewable Fuels Standard Program (RFS2—Supplemental)” (EPA ICR No. 2380.02, OMB Control No. 2060-0637) to the Office of Management and Budget (OMB) for review and approval in accordance with the Paperwork Reduction Act (44 U.S.C. 3501 et seq.). This is a proposed extension of the ICR, which is currently approved through March 31, 2013. Public comments were previously requested via the Federal Register (77 FR 69620) on November 20, 2012 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 29, 2013.

ADDRESSES: Submit your comments, referencing Docket ID Number EPA-HQ-OAR-2005-0161, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change, including any personal information provided, unless the comment includes profanity, threats, information claimed to be Confidential Business Information (CBI) or other information whose disclosure is restricted by statute.

FOR FURTHER INFORMATION CONTACT: Geanetta Heard, Fuels Compliance Center, 6406J Environmental Protection Agency, 1200 Pennsylvania Ave. NW., Washington, DC 20460; telephone number: 202-343-9017 fax number: 202-343-2800; email address: heard.geanetta@epa.gov.

SUPPLEMENTARY INFORMATION: Supporting documents, which explain in detail the information EPA will be collecting, are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: EPA will continue to collect annual reports, initial registrations and updates by way of the Agency's CDX and petitions for renewable fuels pathways from the regulated renewable fuels industry. The recordkeeping and reporting of this regulation will allow EPA to monitor compliance with the RFS program. We inform respondents that they may assert claims of business confidentiality (CBI) for information they submit in accordance with 40 CFR Part 2.

Forms: All of the forms associated with this ICR may be found in the associated docket (Docket ID EPA-HQ -OAR-2005-0161).

Respondents/affected entities: Producers of Renewable Fuels, Importers, Obligated Parties, Parties who own renewable identification numbers (RINs), including foreign RIN owners

Respondent's obligation to respond: Mandatory under the Clean Air Act, Sections 114 and 208, 42 U.S.C. 7414 and 7542.

Estimated number of respondents: 1192.

Frequency of response: Annually.

Total estimated burden: 15,707 hours (per year). Burden is defined at 5 CFR 1320.3(b).

Total estimated cost: $ 3,039,221 (per year) in labor costs. There are no capital or O&M costs.

Changes in the Estimates: There is a sharp decrease of 43,026 hours in the total estimated respondent burden compared to the ICR currently approved by OMB. This decrease was caused by members in the obligated parties once registered not being required to re-register their companies in this renewal. New registrations are required if a company aquires another or when a new company enters into a party. The requirements of the current members in the party classes are to submit updates and corrections to their current registration when needed in CDX. The RFS industry will submitt petitions for renewable fuel pathways to seek approval. The number in the respondent universe will decreased in all categories for the parties thus lessoning the reporting burden for its members.

John Moses,
Director, Collection Strategies Division.

[FR Doc. 2013-07386 Filed 3-28-13; 8:45 am]

BILLING CODE 6560-50-P